DEPARTMENT OF HOMELAND SECURITY

U.S. Customs and Border Protection

Agency Information Collection Activities: Request for Entry or Departure for Flights To and From Cuba

AGENCY: U.S. Customs and Border Protection, Department of Homeland Security.

ACTION: 30-Day notice and request for comments; Extension of an existing information collection: 1651-0134.

SUMMARY: U.S. Customs and Border Protection (CBP) of the Department of Homeland Security will be submitting the following information collection request to the Office of Management and Budget (OMB) for review and approval in accordance with the Paperwork Reduction Act: Request for Entry or Departure for Flights To and From Cuba. This is a proposed extension of an information collection that was previously approved. CBP is proposing that this information collection be extended with no change to the burden hours. This document is published to obtain comments from the public and affected agencies. This proposed information collection was previously published in the Federal Register (76 FR 13204) on March 10, 2011, allowing for a 60-day comment period. This notice allows for an additional 30 days for public comments. This process is conducted in accordance with 5 CFR 1320.10.

DATES: Written comments should be received on or before June 13, 2011.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

SUPPLEMENTARY INFORMATION: U.S. Customs and Border Protection (CBP) encourages the general public and affected Federal agencies to submit written comments and suggestions on proposed and/or continuing information collection requests pursuant to the Paperwork Reduction Act (Pub. L. 104-13). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: Request for Entry or Departure for Flights To and From Cuba.

OMB Number: 1651-0134.

Form Number: None.

Abstract: Until recently, direct flights between the United States and Cuba were required to arrive or depart from one of three named U.S. airports: John F. Kennedy International Airport, Los Angeles International Airport, and Miami International Airport. On January 28, 2011, Customs and Border Protection's (CBP) regulations were amended to allow additional U.S. airports that are able to process international flights to request approval by CBP to process authorized flights between the United States and Cuba.

To be eligible to request approval to accept flights to and from Cuba, an airport must be an international airport, landing rights airport, or user fee airport, as defined and described in part 122 of the CBP regulations, and have adequate and up-to-date staffing, equipment, and facilities to process international traffic. In order for an airport to seek approval to allow arriving and departing flights from Cuba, the port authority must send a written request to CBP requesting permission. Information about the program and how to apply may be found at: http://www.cbp.gov/xp/cgov/newsroom/highlights/cuba_flights.xml.

This information collection is authorized by 19 U.S.C. 1433, 1644a, 8 U.S.C. 1103, and provided for by 19 CFR 122.153.

Current Actions: This submission is being made to extend the expiration date of this information collection with a change to the burden hours resulting from revised estimates by CBP of the number of respondents. There is no change to the information being collected.

Type of Review: Extension (with change).

Affected Public: Businesses.

Estimated Number of Respondents: 30.

Estimated Number of Responses per Respondent: 1.

Estimated Total Annual Responses: 30.

Estimated Time per Response: 1 hour.

Estimated Total Annual Burden Hours: 30.

If additional information is required contact: Tracey Denning, U.S. Customs and Border Protection, Regulations and Rulings, Office of International Trade, 799 9th Street, NW., 5th Floor, Washington, DC 20229-1177, at 202-325-0265.

Dated: May 9, 2011.
Tracey Denning,
Agency Clearance Officer, U.S. Customs and Border Protection.

[FR Doc. 2011-11721 Filed 5-12-11; 8:45 am]

BILLING CODE 9111-14-P